DEPARTMENT OF THE TREASURY

Office of Thrift Supervision

[AC-01: OTS Nos. H-3626 and 03164]

First Federal Bancshares, Inc., Colchester, Illinois; Approval of Conversion Application

Notice is hereby given that on June 30, 2000, the Director, Office of Examination and Supervision, Office of Thrift Supervision, or his designee, acting pursuant to delegated authority, approved the application of First Federal Bank, F.S.B., Colchester, Illinois, to convert to the stock form of organization. Copies of the application are available for inspection at the Dissemination Branch, Office of Thrift Supervision, 1700 G Street, NW., Washington, DC 20552, and the Central Regional Office, Office of Thrift Supervision, 200 West Madison Street, Suite 1300, Chicago, Illinois 60606.

Dated: July 7, 2000.
By the Office of Thrift Supervision.
Nadine Y. Washington,
Corporate Secretary.

[FR Doc. 00-17626 Filed 7-11-00; 8:45 am]

BILLING CODE 6720-01-M